DEPARTMENT OF THE TREASURY

Submission for OMB Review; Comment Request

March 20, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before April 27, 2009 to be assured of consideration.

Internal Revenue Service (IRS)

OMB Number: 1545-2119.

Type of Review: Extension.

Title: Notice 2008-79, Tax-exempt Housing Bonds and 2008 Housing Legislation.

Description: This information is being requested from issuers of tax-exempt bonds who issue bonds subject to the new volume cap or utilize proceeds of mortgage revenue bonds to refinance certain qualified subprime mortgage loans, as provided in the Housing Assistance Tax Act of 2008, enacted July 30, 2008 (“2008 Housing Act”). We are asking issuers to report bonds issued pursuant to the new volume cap on existing form 8038 that is already required to be filed in connection with bond issues, and issuers of mortgage revenue bonds to attach a schedule to the 8038 providing a reasonable estimate of the total expected principal amount that will be utilized to refinance qualified subprime mortgage loans. We are asking issuers to file a second copy of an existing IRS Form 8328 in order to make the election to carry forward additional volume cap provided under the 2008 Housing Act that remains unused at the end of calendar year 2008.

Respondents: State Local, and Tribal Governments.

Estimated Total Burden Hours: 300 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-6692 Filed 3-25-09; 8:45 am]

BILLING CODE 4830-01-P